DEPARTMENT OF HEALTH AND HUMAN SERVICES

Health Resources and Services Administration

Council on Graduate Medical Education; Notice of Meeting

In accordance with section 10(a)(2) of the Federal Advisory Committee Act (Pub. L. 92-463), notice is hereby given of the following meeting:

Name: Council on Graduate Medical Education (COGME).

Dates and Times: November 18, 2009, 8:30 a.m.-4:45 p.m., November 19, 2009, 7:30 a.m.-4:15 p.m.

Place: Hilton Washington DC/Rockville Executive Meeting Center, Regency Ballroom, 1750 Rockville Pike, Rockville, MD 20854, Telephone: (301) 468-1100.

Status: The meeting will be open to the public.

Agenda: On the morning of November 18, following the welcoming remarks from the COGME Chair and the Executive Secretary of COGME, there will be a presentation on the AAMC and the Physician Workforce given by Darrell G. Kirch, M.D., followed by a panel presentation: “Does the Nation Have the Right Number and Mix of GME Slots,” given by Edward Salsberg, M.P.A.; David Sundwall, M.D.; and Fitzhugh Mullan, M.D. The Vice Chair of COGME, Robert Phillips, Jr., M.D., M.S.P.H., will be the facilitator.

In the late morning there will be a presentation of Bureau of Health Professions physician workforce studies in development by Tim Dall; Roger Straw, Ph.D.; and Charles Roehrig, Ph.D.

In the afternoon there will be several presentations. Thomas Russell, M.D., F.A.C.S. will present on the adequacy of the general surgery workforce. Patrick Dowling, M.D. will present on a primary care recruitment initiative. Francis J. Crosson, M.D. will explore the role of MedPAC in health reform and its implications for COGME. And finally, Fitzhugh Mullan, M.D. will present on the state of health reform in legislation and its implications for COGME.

On November 19, the Council will convene into writing groups to further work on the Council's emerging 20th Report. There will be a plenary discussion of near final drafts of the report. Agenda items are subject to change as priorities dictate.

For Further Information Contact: Anyone interested in obtaining a roster of members or other relevant information should write or contact Jerald M. Katzoff, Executive Secretary, COGME, Division of Medicine and Dentistry, Bureau of Health Professions, Parklawn Building, Room 9A-27, 5600 Fishers Lane, Rockville, Maryland 20857, Telephone (301) 443-4443. The Web address for information on the Council and the November 18-19, 2009 meeting agenda is http://cogme.gov.

Dated: October 7, 2009.
Alexandra Huttinger,
Director, Division of Policy Review and Coordination.

[FR Doc. E9-24918 Filed 10-15-09; 8:45 am]

BILLING CODE 4165-15-P